DEPARTMENT OF STATE

[Public Notice 5039]

60-Day Notice of Proposed Information Collection: Form DS-3053, Statement of Consent or Special Circumstances: Issuance of a Passport to a Minor Under Age 14, OMB Control Number 1405-0129

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

Title of Information Collection: Statement of Consent or Special Circumstances: Issuance of a Passport to a Minor Under Age 14.

OMB Control Number: 1405-0129.

Type of Request: Revision of a currently approved collection.

Originating Office: Bureau of Consular Affairs, Department of State, Passport Services, Office of Field Operations, Field Coordination Division. CA/PPT/FO/FC.

Form Number: DS-3053.

Respondents: Individuals or Households.

Estimated Number of Respondents: 525,000 annually.

Estimated Number of Responses: 525,000 annually.

Average Hours Per Response: 1 hour.

Total Estimated Burden: 525,000 hours annually.

Frequency: On occasion.

Obligation to Respond: Required to Obtain a Benefit.

DATES: The Department will accept comments from the public up to 60 days from April 6, 2005.

ADDRESSES: You may submit comments by any of the following methods:

E-mail: Cowlishawsc@state.gov. You must include the DS form number (if applicable), information collection title, and OMB control number in the subject line of your message.

Mail (paper, disk, or CD-ROM submissions): Susan Cowlishaw, US Department of State, CA/PPT/FO/FC, 2100 Pennsylvania Avenue, NW, 3rd Floor/Room 3040/SA-29, Washington DC 20037.

FOR FURTHER INFORMATION CONTACT: Direct requests for additional information regarding the collection listed in this notice, including requests for copies of the proposed information collection and supporting documents, to Susan Cowlishaw, U.S. Department of State, CA/PPT/FO/FC, 2100 Pennsylvania Avenue, NW., 3rd Floor/Room 3040/ SA-29, Washington DC 20037, who may be reached on 202-261-8957 or Cowlishawsc@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The Statement of Consent or Special Circumstances: Issuance of a Passport to a Minor Under Age 14 is used by the parent(s) or legal guardian(s) of a minor U.S. citizen or non-citizen national under the age of 14 to document the written notarized consent to issuance of a U.S. passport to the minor of a parent or legal guardian who is not present at the time the application is made, or to document the existence of exigent or special family circumstances. This form is used in conjunction with Form DS-11, Application for a U.S. Passport or Registration.

Methodology: Passport Services collects the information from U.S. citizens or non-citizen nationals when they voluntarily complete and submit the Statement of Consent or Special Circumstances: Issuance of a Passport to a Minor Under Age 14. Passport applicants can either download the form from the Internet or pick one up from an Acceptance Facility/Passport Agency. The form must be completed and then signed in the presence of a notary. The notary will complete his/her portion of the form and affix the notary seal. The form is then submitted along with the Form DS-11 Application for a U.S. Passport.

Dated: February 16, 2005.
Frank Moss,
Deputy Assistant Secretary for Passport Services, Bureau of Consular Affairs, Department of State.

[FR Doc. 05-6936 Filed 4-5-05; 8:45 am]

BILLING CODE 4710-06-P